DEPARTMENT OF ENERGY

Federal Energy Regulatory Commission

[Docket No. RP01-71-000]

Algonquin Gas Transmission Company; Notice of Proposed Changes in FERC Gas Tariff

November 3, 2000.

Take notice that on October 31, 2000, Algonquin Gas Transmission Company (Algonquin) tendered for filing as part of its FERC Gas Tariff, Fourth Revised Volume No. 1, Eleventh Revised Sheet No. 40 and Fourth Revised Sheet No. 686, to become effective on December 1, 2000.

Algonquin states that, pursuant to section 32 of the General Terms and Conditions of its FERC Gas Tariff, it is filing to revise the Fuel Reimbursement Percentages (FRPs) for the calendar periods beginning December 1, 2000. Algonquin states that the use of actual data for the latest available 12-month period yields decreased FRPs which, compared to the last FRQ annual filing, consist of a 0.06% decrease in the FRP for the Winter season and 0.28% decrease for the Non-Winter seasons. Algonquin proposes to change its tariff to provide for the levelization of the three Non-Winter periods in response to requests from customers for rate stability and in compliance with the Commission's directive in approving Algonquin's last annual FRP filing. Algonquin specifically requests that its tariff changes be accepted by the Commission in order to permit Algonquin to continue to combine the three seasonal periods as proposed.

Algonquin also states that it is submitting the calculation of the fuel reimbursement quantity (FRQ) deferral allocation, pursuant to section 32.5(c) which provides that Algonquin will calculate surcharges or refunds designed to amortize the net monetary value of the balance in the FRQ Deferred Account at the end of the previous accumulation period. Algonquin states that for the period August 1, 1999 through July 31, 2000, the FRQ Deferred Account resulted in a net credit balance that will be refunded to Algonquin's customers, based on the allocation of the account balance over the actual throughput during the accumulation period, exclusive of backhauls.

Algonquin states that copies of this filing were mailed to all affected customers of Algonquin and interested state commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Davis P. Boergers,
Secretary.

[FR Doc. 00-28759 Filed 11-8-00; 8:45 am]

BILLING CODE 6717-01-M